DEPARTMENT OF LABOR

Employment and Training Administration

[TA-W-51,350]

Dana/Torque Traction Tech., Inc., Whitsett, NC; Notice of Termination of Investigation

Pursuant to Section 221 of the Trade Act of 1974, an investigation was initiated on March 28, 2003, in response to a worker petition filed on behalf of workers at Dana/Torque-Traction Tech., Inc., Whitsett, North Carolina.

The petitioning group of workers is subject to an ongoing investigation for which a determination has not yet been issued (TA-W-51,406). Consequently, further investigation in this case would serve no purpose, and the investigation has been terminated.

Signed in Washington, DC this 17th day of April 2003.
Richard Church,
Certifying Officer, Division of Trade Adjustment Assistance.

[FR Doc. 03-10746 Filed 4-30-03; 8:45 am]

BILLING CODE 4510-30-P